ENVIRONMENTAL PROTECTION AGENCY

[ER-FRL-9016-7]

Environmental Impact Statements; Notice of Availability

Responsible Agency: Office of Federal Activities, General Information (202) 564-7146 or http://www.epa.gov/compliance/nepa/.

Weekly receipt of Environmental Impact Statements

Filed 08/18/2014 Through 08/22/2014

Pursuant to 40 CFR 1506.9.

Notice

Section 309(a) of the Clean Air Act requires that EPA make public its comments on EISs issued by other Federal agencies. EPA's comment letters on EISs are available at: http://www.epa.gov/compliance/nepa/eisdata.html.

EIS No. 20140241, Draft Supplement, FHWA, CO, I-70 East, from I-25 to Tower Road, Comment Period Ends: 10/14/2014, Contact: Chris Horn 720-963-3017.

EIS No. 20140242, Draft EIS, USFS, CO, Pawnee National Grassland Oil and Gas Leasing Analysis, Comment Period Ends: 10/14/2014, Contact: Karen Roth 970-295-6621.

EIS No. 20140243, Draft EIS, USFS, NV, Heavenly Mountain Resort Epic Discovery Project, Comment Period Ends: 10/28/2014, Contact: Matt Dickinson 530-543-2769.

Dated: August 26, 2014.
Cliff Rader,
Director, NEPA Compliance Division, Office of Federal Activities.

[FR Doc. 2014-20695 Filed 9-2-14; 8:45 am]

BILLING CODE 6560-50-P